DEPARTMENT OF ENERGY

Federal Energy Regulatory Commission

[Project No. 11945-002]

Symbiotics, LLC; Dorena Hydro, LLC; Notice of Application for Transfer of License, and Soliciting Comments, Motions To Intervene, and Protests

December 18, 2008.

On November 17, 2008, Symbiotics, LLC (Transferor) and Dorena Hydro, LLC (Transferee) filed an application, for transfer of license of the Dorena Lake Dam Project, located on the Row River in Lane County, Oregon.

Applicants seek Commission approval to transfer the license for the Symbiotics, LLC to Dorena Hydro, LLC

Applicant Contact: Mr. Brent L. Smith, 4110 East 300 North, P.O. Box 535, Rigby, ID 83442, Phone (208) 745-0834.

FERC Contact: Robert Bell (202) 502-6062.

Deadline for filing comments, motions to intervene: 30 days from the issuance of this notice. Comments, motions to intervene, and notices of intent may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-11945-002) in the docket number field to access the document. For assistance, call toll-free 1-866-208-3372.

Kimberly D. Bose,
Secretary.

[FR Doc. E8-30748 Filed 12-24-08; 8:45 am]

BILLING CODE 6717-01-P